NUCLEAR REGULATORY COMMISSION

Regulatory Guides; Withdrawal

The Nuclear Regulatory Commission is withdrawing Regulatory Guide 1.120, “Fire Protection Guidelines for Nuclear Power Plants.” Revision 1 of Regulatory Guide 1.120 was issued in November 1977.

Regulatory Guide 1.120 is being withdrawn because Regulatory Guide 1.189, “Fire Protection for Operating Nuclear Power Plants,” contains comprehensive guidance on fire protection, and therefore supersedes Regulatory Guide 1.120. However, the withdrawal of Regulatory Guide 1.120 does not alter any prior or existing licensing commitments based on its use.

Regulatory guides may also be withdrawn when they are superseded by the NRC's regulations, when equivalent recommendations have been incorporated in applicable approved codes and standards, or when changes in methods and techniques or in the need for specific guidance have made them obsolete.

Comments and suggestions in connection with guides currently being developed and published guides are encouraged at any time. Written comments may be submitted to the Rules and Directives Branch, Division of Administrative Services, Office of Administration, U.S. Nuclear Regulatory Commission, Washington, DC 20555. (5 U.S.C. 552(a))

Dated at Rockville, Maryland, this 15th day of August 2001.
For the Nuclear Regulatory Commission.
Ashok C. Thadani,
Director, Office of Nuclear Regulatory Research.

[FR Doc. 01-21580 Filed 8-24-01; 8:45 am]

BILLING CODE 7590-01-P